DEPARTMENT OF AGRICULTURE

Submission for OMB Review; Comment Request

November 18, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Qualified Products List for Foam Fire Suppressants.

OMB Control Number: 0596-0183.

Summary of Collection: The Forest Service (FS) objective is, “To have available and utilize adequate types and quantities of qualified fire chemical products to accomplish fire management activities safely, efficiently, and effectively.” To accomplish their objective, FS evaluates chemical products that may be used in direct wild land fire suppression operations prior to their use on lands managed by the FS. Safe products do not include ingredients that create an enhanced risk, in typical use, to either the firefighters involved or the public in general.

Need and Use of the Information: FS will collect the listing of individual ingredients and quantity of these ingredients in the formulation of a product being submitted for evaluation in order to test the products on the Formulation Disclosure Sheet FS-5100-35. The entity submitting the information provides the FS with the specific ingredients used in its product and identifies the specific source of supply for each ingredient. For Class A foam products the FS requires that a Technical Data Sheet FS-5100-36 be completed. The information collected here is specific mixing requirements. The information provided will allow the FS to search the List of Known and Suspected Carcinogens, as well as the Environment Protection Agency's List of Highly Hazardous Materials, to determine if any of the ingredients appear on any of these lists. Without the information FS would not be able to assess the safety of the wildland fire chemicals utilized on FS managed land, since the specific ingredients and the quantity of each ingredients used in a formulation would not be known.

Description of Respondents: Business or other for-profit.

Number of Respondents: 4.

Frequency of Responses: Reporting: Other (once).

Total Burden Hours: 12.

Forest Service

Title: Qualified Products List for Long-Term Retardant Fire Suppressants.

OMB Control Number: 0596-0184.

Summary of Collection: The Forest Service (FS) objective is, “To have available and utilize adequate types and quantities of qualified fire chemical products to accomplish fire management activities safely, efficiently, and effectively.” To accomplish their objective, FS evaluates chemical products that may be used in direct wildland fire suppression operations prior to their use on lands managed by the FS. Safe products do not include ingredients that create an enhanced risk, in typical use, to either the firefighters involved or the public in general.

Need and Use of the Information: Using form FS-5100-37, FS will collect the listing of individual ingredients and quantity of these ingredients in the formulation of a product being submitted for evaluation in order to test the products. The entity submitting the information provides the FS with the specific ingredients used in its product and identifies the specific source of supply for each ingredient. For Long-term retardant products the FS requires that a Technical Data Sheet, FS-5100-38 and FS-5100-39 be completed. The information collected here is specific mixing requirements and hydration requirements of gum-thickened retardants. The information provided will allow the FS to search the List of Known and Suspected Carcinogens, as well as the Environment Protection Agency's List of Highly Hazardous Materials, to determine if any of the ingredients appear on any of these lists. Without the information FS would not be able to assess the safety of the wildland fire chemicals utilized on FS managed land, since the specific ingredients and the quantity of each ingredients used in a formulation would not be known.

Description of Respondents: Business or other for-profit.

Number of Respondents: 2.

Frequency of Responses: Reporting: Other (once).

Total Burden Hours: 45.

Forest Service

Title: Extension of Timber Sales.

OMB Control Number: 0596-0212.

Summary of Collection: The Food Conservation, and Energy Act of 2008 (Pub. L. 110-246, 122 Stat. 1651) Section 8401, provides several different relief options for timber sale purchasers holding contracts with rates significantly higher than current timber market rates due to a drastic reduction in forest products markets. The relief options include: (a) Contract cancellation or rate determination, (b) substitution of the Bureau of Labor statistics producer price index specified in the contract, (c) rate redetermination following substitution of index, (d) extension of contracts using the hardwood lumber index, and (e) extension of Market-Related Contract term Addition time limit for certain contracts.

Need and Use of the Information: To obtain the benefits of these options, National Forest System timber sale purchasers are required to provide information of the timber sale name, contract number, purchasers name, rationale for request (selection from list of established options), witness signatures, certification, signature and corporate seal. Forest Service will use forms including but not limited to FS-2400-70 and FS-2400-71 to collect the information.

Description of Respondents: Individuals or households.

Number of Respondents: 347.

Frequency of Responses: Reporting: Other (one time).

Total Burden Hours: 83.

Forest Service

Title: Subsistence Harvest Patterns in Prince William Sound.

OMB Control Number: 0596—New.

Summary of Collection: In 1989, Prince William Sound (PWS), the heart of the Chugach National Forest was severely impacted by the Exxon Valdez Oil Spill (EVOS). In the aftermath of the spill, federal and state trustees were awarded criminal and civil restitution funds to help with the recovery and the evaluation of the recovery that includes traditional practices of subsistence harvest, which is still listed as “recovering.” Subsistence harvest is an important part of the rural Alaskan lifestyle. The Alaska National Interest Lands Conservation Act requires that federal land managers consider the effects of management on subsistence activities. Recreation use is increasing in the Sound raising concern that increased competition and rapid growth in commercial and independent recreation may be negatively impacting subsistence activities through direct competition for resources from sport fishers and hunters, but also indirectly by displacing subsistence harvesters from traditional harvest areas. Residents from the four communities of PWS (Chenega, Cordova, Tatitlek and Whittier) who are subsistence eligible will be consulted through individual household interviews.

Need and Use of the Information: Respondents will describe harvest practices and any recent changes in such activities due to other users or changes in species availability. The results of this survey (funded by EVOS criminal restitution dollars) will provide information on recovery and restoration activities undertaken by both the EVOS trustees and local resource managers relative to current and projected levels of human use. The study provides an opportunity to assess the recovery of the subsistence human service injured and redistributed by the EVOS, as well as how the Chugach National Forest managers can further enhance recovery.

Description of Respondents: Individuals or households.

Number of Respondents: 530.

Frequency of Responses: Reporting: Other (one time).

Total Burden Hours: 196.

Forest Service

Title: Southern Appalachian Forest Management Survey.

OMB Control Number: 0596—New.

Summary of Collection: The Healthy Forest Restoration Act (Pub. L. 108-148) enabling legislation, Title IV (Insect Infestations and Related Diseases) authorizes the Secretary of Agriculture to perform accelerated information gathering regarding the development of treatment strategies to protect forests from damaging insects and diseases. This study will provide credible, science-based information to forest-health protection managers regarding the public acceptability of alternative treatments strategies for protecting hemlock forests on public forestland in the eastern United States from the exotic insect hemlock woolly adelgid (HWA). Using random digit dialing the Forest Service (FS) will collect the information from individuals (heads of households). Individuals agreeing to participate will receive a questionnaire in the mail along with additional information about the purpose of the study. The organization “Friends of Great Smoky Mountain National Park” has expressed an interest in the program and researchers will use identical phone-mail-phone protocols to obtain information from members.

Need and Use of the Information: The FS is seeking to determine the appropriate level of effort to take to protect hemlock forests on public land in the eastern United States from the HWA. The FS and university researchers will collect and analyze information regarding the value of the hemlock forests located on public land in the Southern Appalachian Mountains from residents living within 500 miles of Ashville, North Carolina. The data and analyses will provide guidance to public forest managers regarding the value of ecosystem services supplied by hemlock forests on the land that they manage and the level of public support for alternative hemlock forest-protection programs.

Description of Respondents: Individuals or households.

Number of Respondents: 1,200.

Frequency of Responses: Reporting: Other (one time).

Total Burden Hours: 541.

Charlene Parker,
Departmental Information Collection Clearance Officer.

[FR Doc. E8-27805 Filed 11-21-08; 8:45 am]

BILLING CODE 3410-11-P